DEPARTMENT OF THE INTERIOR

Fish and Wildlife Service

50 CFR Part 17

RIN 1018-AH40

Endangered and Threatened Wildlife and Plants; Listing the Sonoma County Distinct Population Segment of the California Tiger Salamander as Endangered

AGENCY: Fish and Wildlife Service, Interior.

ACTION: Proposed rule; reopening of the comment period.

SUMMARY: We, the U.S. Fish and Wildlife Service (Service), announce the reopening of the comment period for the proposed rule to list the Sonoma County Distinct Population Segment of the California tiger salamander (Ambystoma californiense) as endangered under the authority of the Endangered Species Act of 1973, as amended. We are reopening the comment period to allow interested parties additional time to submit information to us for our consideration in making the final determination for this species. Comments already submitted on the proposed rule need not be resubmitted as they will be fully considered in the final determination.

DATES: Comments and information from all interested parties will be accepted until 5 p.m. on December 16, 2002.

ADDRESSES: You may submit written comments and materials concerning the proposed rule to Wayne S. White, Field Supervisor, ATTN: SCCTS, Sacramento Fish and Wildlife Office, U.S. Fish and Wildlife Service, 2800 Cottage Way Room W-2605, Sacramento, CA 95825. Written comments may also be sent by facsimile to 916/414-6713 or through the internet to fw1sonoma_tiger_salamander@fws.gov. You may also hand-deliver written comments to our Sacramento Fish and Wildlife Office, at the above address. Comments and materials received, as well as supporting documentation used in the preparation of this proposed rule, will be available for public inspection, by appointment, during normal business hours, at the above address. You may obtain copies of the proposed rule from the above address, by calling 916/414-6600, or from our Web site at http://sacramento.fws.gov.

FOR FURTHER INFORMATION CONTACT: Susan Moore or Chris Nagano, Sacramento Fish and Wildlife Office, 2800 Cottage Way Room W-2605, Sacramento, CA 95825 (telephone 916/414-6600, facsimile 916/414-6713 or visit our website at http://sacramento.fws.gov/).

SUPPLEMENTARY INFORMATION:

Background

This Distinct Population Segment (DPS) of the California tiger salamander is restricted to a portion of the Santa Rosa Plain in Sonoma County, California, extending from approximately Santa Rosa south to the Cotati area. The factors imperiling this animal in Sonoma County include habitat destruction, degradation, and fragmentation, collection, invasive exotic species, and inadequate regulatory mechanisms. Because of its small numbers, this DPS also is highly vulnerable to chance environmental or demographic events such as drought, disease, or fluctuations in mating success.

Pursuant to the Endangered Species Act of 1973, as amended (16 U.S.C. 1531 et seq.) (Act), we published an emergency rule to list the Sonoma County Distinct Population Segment of the California tiger salamander as endangered on July 22, 2002 (67 FR 47726-47740). The emergency rule provides immediate Federal protection to this DPS for a period of 240 days. We also published a proposed rule on July 22, 2002, to list the Sonoma County DPS of the California tiger salamander as endangered under our normal listing procedures (67 FR 47758-47760). A public hearing on the proposed rule was held on October 1, 2002, in Santa Rosa, California.

For further information regarding background biological information, previous Federal actions, factors affecting the subspecies, and conservation measures available to the Sonoma County DPS of the California tiger salamander, please refer to our emergency and proposed rules published in the Federal Register on July 22, 2002.

Public Comments Solicited

We solicit additional information and comments that may assist us in making a final decision on the proposed rule to list the Sonoma County DPS of the California tiger salamander as endangered. We intend that any final listing action resulting from our proposal will be as accurate and effective as possible. Therefore, we are reopening the comment period to solicit additional information from the general public, other concerned governmental agencies, the scientific community, industry, or any other interested party concerning this proposed rule. Comments are particularly sought concerning:

(1) Biological, commercial trade, or other relevant data concerning any threat (or lack thereof) to the Sonoma County DPS of the California tiger salamander;

(2) The location of any additional breeding sites of this DPS, and the reasons why any habitat should or should not be determined to be critical habitat pursuant to section 4 of the Act;

(3) Additional information concerning the range, biology, ecology, or population size of this DPS; and

(4) Current or planned activities or land use practices in the subject area and their possible impacts on this species in Sonoma County.

The comment period, which originally closed on September 20, 2002, and was then extended to October 21, 2002 (67 FR 54761, August 26, 2002), will now close on the date specified above in the DATES section. Previously submitted written comments on this proposal need not be resubmitted. If you submit comments by e-mail, please submit them in ASCII file format and avoid the use of special characters and encryption. Please include “Attn: SCCTS” and your name and return address in your e-mail message. If you do not receive a confirmation from our system that we have received your e-mail message, contact us directly by calling our Sacramento Fish and Wildlife Office at telephone number 916/414-6600. Comments and materials received will be available for public inspection, by appointment, during normal business hours at the Sacramento Fish and Wildlife Office, at the above address.

Author

The primary author of this notice is Chris Nagano, Deputy Chief, Endangered Species Division (see ADDRESSES section).

Authority: The authority for this action is the Endangered Species Act of 1973 (16 U.S.C. 1531 et seq.).

Dated: October 16, 2002.
Marshall P. Jones, Jr.,
Acting Director, Fish and Wildlife Service.

[FR Doc. 02-27650 Filed 10-30-02; 8:45 am]

BILLING CODE 4310-55-P